DEPARTMENT OF AGRICULTURE

Farm Service Agency

[Docket ID: FSA-2025-0003]

Information Collection Request; Measurement Service Record

AGENCY: Farm Service Agency, U.S. Department of Agriculture (USDA).

ACTION: Notice; request for comments.

SUMMARY: In accordance with the Paperwork Reduction Act requirement, the Farm Service Agency (FSA) is requesting comments from all interested individuals and organizations on an extension of a currently approved information collection request associated with the Measurement Service Record.

DATES: We will consider comments that we receive by May 19, 2025.

ADDRESSES: We invite you to submit comments on the information collection request. You may submit comments, identified by Docket ID: FSA-2025-0003, by following this method: federal eRulemaking Portal: Go to http://www.regulations.gov. Follow the online instructions for submitting comments.

FOR FURTHER INFORMATION CONTACT: Amy Mitchell, telephone: (202) 720-8954; email: amy.mitchell@usda.gov. Persons with disabilities who require alternative mean for communication should contact the USDA's TARGET Center at (202) 720-2600 (Voice) (voice and text telephone (TTY mode)) or dial 711 for Telecommunications Relay Service (both voice and text telephone users can initiate this call from any telephone).

SUPPLEMENTARY INFORMATION:

Description of Information Collection Request

Title: Measurement Service Record.

OMB Control Number: 0560-0260.

Expiration Date: 07/31/2025.

Type of Request: Extension.

Abstract: When a producer requests a measurement of acreage or production from FSA, the producer uses the form FSA-409 (Measurement Service Record) to make the request, which requires a measurement service fee to be paid to FSA. The form is manual. The form is prepared by the FSA County Office personnel when producers come into the office and request a measurement service to be performed. The information is used to create a record of measurement service request and cost to the producer. Information that the producer is required to provide on this form is the farm serial number, program year, farm location, contact person, type of service request (acreage or production).

The producer must pay the cost of the service prior to the service being formed. The form serves as a record of the request, receipt of payment for the producer and documents the results of the service provided. The producer must sign the form to insure the accuracy of what is being requested, the person accepting the funds signs acknowledging receipt of funds and the person performing the service signs the form after completion of the service. The measurement policy and procedure are located in 7 CFR part 718.

There are no changes to the burden hours since the last OMB submission.

For the following estimated total annual burden on respondents, the formula used to calculate the total burden hour is the estimated average time per responses hours multiplied by the estimated total annual responses.

Estimate of Annual Burden: Public reporting burden for the collection of information is estimated to average 15 minutes per response.

Respondents: Producers.

Estimated Number of Respondents: 135,000.

Estimated Number of Responses per Respondent: 1.

Estimated Total Annual of Responses: 135,000.

Estimated Average Time per Response: 15 minutes (0.25).

Estimated Total Annual Burden Hours: 33,750 hours.

We are requesting comments on all aspects of this information collection to help us:

(1) Evaluate whether the proposed collection of information is necessary for the proper performance of the functions of the agency, including whether the information will have practical utility;

(2) Evaluate the accuracy of the agency's estimate of the burden of the collection of information including the validity of the methodology and assumptions used;

(3) Evaluate the quality, utility, and clarity of the information technology; and

(4) Minimize the burden of the information collection on those who respond through the use of appropriate automated, electronic, mechanical, or other technological collection techniques or other forms of information technology.

All comments received in response to this notice, including names and addresses where provided, will be made a matter of public record. Comments will be summarized and included in the request for OMB approval of the information collection.

Kimberly Graham,
Acting Administrator, Farm Service Agency.

[FR Doc. 2025-04706 Filed 3-19-25; 8:45 am]

BILLING CODE 3411-E2-P